DEPARTMENT OF AGRICULTURE

Rural Housing Service

[Docket No.: RHS-22-MFH-0003]

Section 514 Off-Farm Labor Housing Loans and Section 516 Off-Farm Labor Housing Grants To Improve, Repair, or Make Modifications to Existing Off-Farm Labor Housing Properties for Fiscal Year 2022; Correction

AGENCY: Rural Housing Service, USDA.

ACTION: Notice of Funds Availability (NOFA); Correction.

SUMMARY: The Rural Housing Service (RHS), a Rural Development agency of the United States Department of Agriculture, is correcting a notice of funding availability (NOFA) that was published in the Federal Register on March 9, 2022, entitled, “Section 514 Off-Farm Labor Housing Loans and Section 516 Off-Farm Labor Housing Grants to Improve, Repair, or Make Modifications to existing Off-Farm Labor Housing Properties for Fiscal Year 2022.” The notice announced the acceptance of pre-applications for subsequent Section 514 Off-Farm Labor Housing (Off-FLH) loans and subsequent Section 516 Off-FLH grants to improve, repair, or make modifications to existing Off-Farm Labor Housing Properties for fiscal year 2022. The purpose of this notice is to correct the application deadline dates published in the Federal Register on March 9, 2022.

DATES: March 25, 2022.

FOR FURTHER INFORMATION CONTACT: Jonathan Bell, Director, Processing and Report Review Branches, Production and Preservation Division, Multifamily Housing Programs, Rural Development, United States Department of Agriculture, via email: MFHprocessing1@usda.gov or telephone: (254) 742-9764.

SUPPLEMENTARY INFORMATION:

Corrections

In the Federal Register of March 9, 2022, in FR Doc. 2022-04718 (87 FR 13374), make the following corrections:

(1) In the first column of page 13374, amend the DATES section to read as follows:

DATES: Eligible pre-applications submitted to the Production and Preservation Division, Processing and Report Review Branch, for this Notice will be accepted until May 9, 2022, 12 p.m., Eastern Standard Time. Pre-applications that are deemed eligible but are not selected for further processing, will be withdrawn from processing. RHS will not consider any application that is received after the established deadlines unless the date and time are extended by another Notice published in the Federal Register. The RHS may at any time supplement, extend, amend, modify, or supersede this Notice by publishing another Notice in the Federal Register. Additional information about this funding opportunity can be found on the Grants.gov website at http://www.grants.gov.

The application deadlines are as follows:

1. Pre-applications must be submitted by May 9, 2022, 12 p.m., Eastern Standard Time.

2. RHS notification to applicants by July 11, 2022.

3. Final applications must be submitted by September 12, 2022, 12 p.m., Eastern Standard Time.

4. Awards communicated to applicants by November 14, 2022.

5. Awards posted to the RHS website by December 14, 2022.

Joaquin Altoro,
Administrator, Rural Housing Service.

[FR Doc. 2022-06300 Filed 3-24-22; 8:45 am]

BILLING CODE 3410-XV-P